DEPARTMENT OF AGRICULTURE

Agricultural Marketing Service

[Docket Number FV-06-301]

United States Standards for Grades of Mixed Commodities

AGENCY: Agricultural Marketing Service, USDA.

ACTION: Notice.

SUMMARY: The Agricultural Marketing Service (AMS) of the Department of Agriculture (USDA) is establishing voluntary United States Standards for Grades of Mixed Commodities. The standards will provide industry with a common language and uniform basis for trading, thus promoting the orderly and efficient marketing for fresh fruits and vegetables that are mixed in a package.

DATES: Effective Date: December 4, 2006.

FOR FURTHER INFORMATION CONTACT: Cheri L. Emery, Standardization Section, Fresh Products Branch, Fruit and Vegetable Programs, Agricultural Marketing Service, U.S. Department of Agriculture, 1400 Independence Ave., SW., Room 1661, South Building, Stop 0240, Washington, DC 20250-0240, (202) 720-2185, fax (202) 720-8871, or e-mail Cheri.Emery@usda.gov.

The United States Standards for Grades of Mixed Commodities is available either from the above address or by accessing the AMS, Fresh Products Branch Web site at: http://www.ams.usda.gov/standards/stanfrfv.htm.

SUPPLEMENTARY INFORMATION: Section 203(c) of the Agricultural Marketing Act of 1946 (7 U.S.C. 1621-1627), as amended, directs and authorizes the Secretary of Agriculture “To develop and improve standards of quality, condition, quantity, grade and packaging and recommend and demonstrate such standards in order to encourage uniformity and consistency in commercial practices.” AMS is committed to carrying out this authority in a manner that facilitates the marketing of agricultural commodities and makes copies of official standards available upon request. The United States Standards for Grades of Fruits and Vegetables not connected with Federal Marketing Orders or U.S. Import Requirements, no longer appear in the Code of Federal Regulations, but are maintained by USDA, AMS, Fruit and Vegetable Programs.

AMS is establishing voluntary United States Standards for Grades of Mixed Commodities using the procedures that appear in Part 36, Title 7 of the Code of Federal Regulations (7 CFR part 36).

Background

AMS previously published a notice in the Federal Register (71 FR 3816-3817), on January 24, 2006, soliciting comments on the proposed voluntary United States Standards for Grades of Mixed Commodities. The proposed standards contained the U.S. Mixed grade. In addition, there were “Sample Basis,” “Tolerances,” and “Application of Tolerances” sections. AMS also defined “Mixed,” “Injury,” “Damage,” and “Serious Damage.”

In response to the notice, a comment was received from an individual asking “ * * * how would commodities with tolerances of less than 10% be handled?” The total tolerance in the United States Standards for Grades of Mixed Commodities would be 10 percent. Therefore, when commodities are being certified under the mixed commodities standards the 10 percent tolerance would apply regardless of the tolerances in the individual standards. Additionally, the commenter asked, “Can commodities under a Marketing Order (with less than 10% tolerance, i.e. onions from Idaho and Eastern Oregon) be packed under this standard?” Marketing orders are issued under the Agricultural Marketing Agreement Act of 1937 (7 U.S.C. 601-608) and commodities regulated under such orders must meet handling requirements that may include tolerances that differ from the 10 percent tolerance that appears in the mixed commodities standards. The voluntary mixed commodities standards are issued under the Agricultural Marketing Act of 1946 and the 10 percent total tolerance for such mixed commodities would be applicable to grading and certification under this program. Certification under the U.S. mixed commodities standard would not meet the requirements of the marketing order program.

The adoption of the U.S. grade standards will provide the mixed commodity industry with U.S. grade standards similar to those extensively in use by the fresh produce industry to assist in orderly marketing of other commodities.

The official grade of a lot of mixed commodities covered by these standards will be determined by the procedures set forth in the Regulations Governing Inspection, Certification, and Standards of Fresh Fruits, Vegetables, and Other Products (Sec. 51.1 to 51.61).

The United States Standards for Grades of Mixed Commodities will be effective 30 days after publication of this notice in the Federal Register.

Authority: 7 U.S.C. 1621-1627.

Dated: October 27, 2006.
Lloyd C. Day,
Administrator, Agricultural Marketing Service.

[FR Doc. E6-18514 Filed 11-1-06; 8:45 am]

BILLING CODE 3410-02-P